DEPARTMENT OF TRANSPORTATION

Federal Aviation Administration

14 CFR Part 39

[Docket No. 2003-CE-59-AD]

RIN 2120-AA64

Airworthiness Directives; Schempp-Hirth Flugzeugbau GmbH Models Ventus-2a, Ventus-2b, Discus-2a, and Discuss-2b Sailplanes

AGENCY: Federal Aviation Administration (FAA), DOT.

ACTION: Notice of proposed rulemaking (NPRM).

SUMMARY: The FAA proposes to adopt a new airworthiness directive (AD) for all Schempp-Hirth Flugzeugbau GmbH (Schempp-Hirth) Models Ventus-2a, Ventus-2b, Discus-2a, and Discuss-2b sailplanes. This proposed AD would require you to inspect and modify the elevator mass balance. For Models Discus-2a and Discus-2b sailplanes only, this proposed AD would also require you to replace the elevator pushrod. This proposed AD is the result of mandatory continuing airworthiness information (MCAI) issued by the airworthiness authority for Germany. We are issuing this proposed AD to detect and correct problems within the sailplane elevator control system before they lead to flutter and sailplane instability. This could eventually result in loss of sailplane control.

DATES: We must receive any comments on this proposed AD by March 25, 2004.

ADDRESSES: Use one of the following to submit comments on this proposed AD:

• By mail: FAA, Central Region, Office of the Regional Counsel, Attention: Rules Docket No. 2003-CE-59-AD, 901 Locust, Room 506, Kansas City, Missouri 64106.

• By fax: (816) 329-3771.

• By e-mail: 9-ACE-7-Docket@faa.gov. Comments sent electronically must contain “Docket No. 2003-CE-59-AD” in the subject line. If you send comments electronically as attached electronic files, the files must be formatted in Microsoft Word 97 for Windows or ASCII.

You may get the service information identified in this proposed AD from Schempp-Hirth Flugzeugbau GmbH, Postfach 14 43, D-73230 Kirchheim/Teck, Federal Republic of Germany; telephone: 011 49 7021 7298-0; facsimile: 011 49 7021 7298-199.

You may view the AD docket at FAA, Central Region, Office of the Regional Counsel, Attention: Rules Docket No. 2003-CE-59-AD, 901 Locust, Room 506, Kansas City, Missouri 64106. Office hours are 8 a.m. to 4 p.m., Monday through Friday, except Federal holidays.

FOR FURTHER INFORMATION CONTACT: Greg Davison, Aerospace Engineer, FAA, Small Airplane Directorate, 901 Locust, Room 301, Kansas City, Missouri 64106; telephone: (816) 329-4130; facsimile: (816) 329-4090.

SUPPLEMENTARY INFORMATION:

Comments Invited

How do I comment on this proposed AD? We invite you to submit any written relevant data, views, or arguments regarding this proposal. Send your comments to an address listed under ADDRESSES. Include “AD Docket No. 2003-CE-59-AD” in the subject line of your comments. If you want us to acknowledge receipt of your mailed comments, send us a self-addressed, stamped postcard with the docket number written on it. We will date-stamp your postcard and mail it back to you.

Are there any specific portions of this proposed AD I should pay attention to? We specifically invite comments on the overall regulatory, economic, environmental, and energy aspects of this proposed AD. If you contact us through a nonwritten communication and that contact relates to a substantive part of this proposed AD, we will summarize the contact and place the summary in the docket. We will consider all comments received by the closing date and may amend this proposed AD in light of those comments and contacts.

Discussion

What events have caused this proposed AD? The Luftfahrt-Bundesamt (LBA), which is the airworthiness authority for Germany, recently notified FAA that an unsafe condition may exist on Schempp-Hirth Models Ventus-2a, Ventus-2b, Discus-2a, and Discuss-2b sailplanes. The LBA reports that the potential exists for elevator mass balance problems on the referenced sailplanes.

What are the consequences if the condition is not corrected? Elevator mass balance problems, if not detected and corrected, could lead to flutter and sailplane instability. This could eventually result in loss of sailplane control.

Is there service information that applies to this subject? Schempp-Hirth has issued the following:

Service Document | Models Affected | Procedures
Technical Note No. 360-19, dated December 20, 2002 | Discus-2a and Discus-2b | Adding a mass balance to the elevators; and installing an elevator pushrod in the vertical fin.
Technical Note No. 349-28 (No. 360-20, No. 863-8), dated September 16, 2003 | Ventus-2a, Ventus-2b, Discus-2a, and Discus-2b | Modifying the mass balance weights.

What action did the LBA take? The LBA classified these technical notes as mandatory and issued the following to ensure the continued airworthiness of these sailplanes in Germany:

• German AD No. 2003-048, effective date: March 6, 2003; and

• German AD No. 2003-280, effective date: October 2, 2003.

Did the LBA inform the United States under the bilateral airworthiness agreement? These Schempp-Hirth Models Ventus-2a, Ventus-2b, Discus-2a, and Discus-2b sailplanes are manufactured in Germany and are type-certificated for operation in the United States under the provisions of section 21.29 of the Federal Aviation Regulations (14 CFR 21.29) and the applicable bilateral airworthiness agreement.

Under this bilateral airworthiness agreement, the LBA has kept us informed of the situation described above.

FAA's Determination and Requirements of This Proposed AD

What has FAA decided? We have examined the LBA's findings, reviewed all available information, and determined that AD action is necessary for products of this type design that are certificated for operation in the United States.

Since the unsafe condition described previously is likely to exist or develop on other Schempp-Hirth Models Ventus-2a, Ventus-2b, Discus-2a, and Discus-2b sailplanes of the same type design that are registered in the United States, we are proposing AD action to detect and correct problems within the sailplane elevator control system before they lead to flutter and sailplane instability. This could eventually result in loss of sailplane control.

What would this proposed AD require? This proposed AD would require you to incorporate the actions in the previously-referenced technical notes.

How does the revision to 14 CFR part 39 affect this proposed AD? On July 10, 2002, we published a new version of 14 CFR part 39 (67 FR 47997, July 22, 2002), which governs FAA's AD system. This regulation now includes material that relates to altered products, special flight permits, and alternative methods of compliance. This material previously was included in each individual AD. Since this material is included in 14 CFR part 39, we will not include it in future AD actions.

Costs of Compliance

How many sailplanes would this proposed AD impact? We estimate that the actions specified in Schempp-Hirth Technical Note No. 360-19 would affect 15 sailplanes in the U.S. registry and the actions specified in Schempp-Hirth Technical Note No. 349-28 would affect 51 sailplanes in the U.S. registry.

What would be the cost impact of this proposed AD on owners/operators of the affected sailplanes? We estimate the following costs to accomplish the proposed actions:

Affected technical note | Labor cost | Parts cost | Total cost per sailplane | Total cost U.S. operators
No. 360-19 | 17 workhours at $65 per hour = $1,105 | $135 per sailplane | $1,240 per sailplane | $18,600
No. 349-28 | 4 workhours at $65 per hour = $260 | No cost for parts | $260 per sailplane | $13,260

Regulatory Findings

Would this proposed AD impact various entities? We have determined that this proposed AD would not have federalism implications under Executive Order 13132. This proposed AD would not have a substantial direct effect on the States, on the relationship between the national Government and the States, or on the distribution of power and responsibilities among the various levels of government.

Would this proposed AD involve a significant rule or regulatory action? For the reasons discussed above, I certify that this proposed AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this proposed AD and placed it in the AD Docket. You may get a copy of this summary by sending a request to us at the address listed under ADDRESSES. Include “AD Docket No. 2003-CE-59-AD” in your request.

List of Subjects in 14 CFR Part 39

Air transportation, Aircraft, Aviation safety, Safety.

The Proposed Amendment

Accordingly, under the authority delegated to me by the Administrator, the Federal Aviation Administration proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Schempp-Hirth Flugzeugbau GmbH: Docket No. 2003-CE-59-AD.

When Is the Last Date I Can Submit Comments on This Proposed AD?

(a) We must receive comments on this proposed airworthiness directive (AD) by March 25, 2004.

What Other ADs Are Affected by This Action?

(b) None.

What Sailplanes Are Affected by This AD?

(c) This AD affects the following model and serial number sailplanes that are certificated in any category:

Group | Models | Serial numbers
(1) Group 1 Sailplanes | Discus-2a and Discus-2b sailplanes that do not have Shempp-Hirth Technical Note No. 360-16 incorporated | 13 through 22, 24, 27, 30 through 48, 50, 51, 53, 54, 55, 57 through 63, 65, 67, 68, 71 through 79, 81, and 82.
(2) Group 2 Sailplanes | Ventus-2a, Ventus-2b, Discus-2a, and Discus-2b sailplanes | Ventus-2a and Venus-2b:: 1, 2, 31, 32, 48, 54, 71, 117, 124 through 151, and 153; and all serial numbers that incorporate Modification Bulletin 349-42 or are equipped with a new tail unit per Shempp-Hirth Technical Note No. 349-27. Discus-2a and Discus-2b: 1 through 185, 187, 188, and 189.

What Is the Unsafe Condition Presented in This AD?

(d) This AD is the result of is the result of mandatory continuing airworthiness information (MCAI) issued by the airworthiness authority for Germany. The actions of this AD are intended to detect and correct problems within the sailplane elevator control system before they lead to flutter and sailplane instability. This could eventually result in loss of sailplane control.

What Must I Do To Address This Problem?

(e) To address this problem, you must do the following:

Actions | Compliance | Procedures
(1) For Group 1 sailplanes: Add a mass balance to the elevators and install an elevator pushrod in the vertical fin | Within the next 25 hours time-in-service (TIS) after the effective date of this AD, unless already done | Follow Schempp-Hirth Technical Note No. 360-19, dated December 20, 2002.
(2) For Group 2 sailplanes: Modify the mass balance weights | Within the next 25 hours TIS after the effective date of this AD, unless already done | Follow Schempp-Hirth Technical Note No. 349-28 (No. 360-20, No. 863-8), dated September 16, 2003.

May I Request an Alternative Method of Compliance?

(f) You may request a different method of compliance or a different compliance time for this AD by following the procedures in 14 CFR 39.19. Unless FAA authorizes otherwise, send your request to your principal inspector. The principal inspector may add comments and will send your request to the Manager, Standards Office, Small Airplane Directorate, FAA. For information on any already approved alternative methods of compliance, contact Greg Davison, Aerospace Engineer, FAA, Small Airplane Directorate, 901 Locust, Room 301, Kansas City, Missouri 64106; telephone: (816) 329-4130; facsimile: (816) 329-4090.

May I Get Copies of the Documents Referenced in This AD?

(g) You may get copies of the documents referenced in this AD from Schempp-Hirth Flguzeugbau GmbH, Postfach 14 43, D-73230 Kirchheim/Teck, Federal Republic of Germany; telephone : 011 49 7021 7298-0; facsimile: 011 49 7021 7298-199. You may view these documents at FAA, Central Region, Office of the Regional Counsel, 901 Locust, Room 506, Kansas City, Missouri 64106.

Is There Other Information That Relates to This Subject?

(h) German AD No. 2003-048, effective date: March 6, 2003, and German AD No. 2003-280, effective date: October 2, 2003, also address the subject of this AD.

Issued in Kansas City, Missouri, on February 10, 2004.
James E. Jackson,
Acting Manager, Small Airplane Directorate, Aircraft Certification Service.

[FR Doc. 04-3353 Filed 2-13-04; 8:45 am]

BILLING CODE 4910-13-P